DEPARTMENT OF ENERGY

Federal Energy Regulatory Commission

Combined Notice of Filings #1

Take notice that the Commission received the following electric corporate filings:

Docket Numbers: EC98-2-001; ER18-2162-000.

Applicants: Louisville Gas and Electric Company, Kentucky Utilities Company.

Description: Joint Application under FPA Section 203 and Section 205 of Louisville Gas and Electric Company, et al.

Filed Date: 8/3/18.

Accession Number: 20180803-5189.

Comments Due: 5 p.m. ET 8/24/18.

Take notice that the Commission received the following exempt wholesale generator filings:

Docket Numbers: EG18-119-000.

Applicants: Stillwater Wind, LLC.

Description: Notice of Self-Certification of Exempt Wholesale Generator Status of Stillwater Wind, LLC.

Filed Date: 8/7/18.

Accession Number: 20180807-5034.

Comments Due: 5 p.m. ET 8/28/18.

Docket Numbers: EG18-120-000.

Applicants: Crazy Mountain Wind LLC.

Description: Notice of Self-Certification of Exempt Wholesale Generator Status of Crazy Mountain Wind LLC.

Filed Date: 8/7/18.

Accession Number: 20180807-5037.

Comments Due: 5 p.m. ET 8/28/18.

Take notice that the Commission received the following electric rate filings:

Docket Numbers: ER18-1575-001.

Applicants: NorthWestern Corporation.

Description: Compliance filing: Erratum to Order No. 842 Compliance Filing (South Dakota OATT) to be effective 5/15/2018.

Filed Date: 8/7/18.

Accession Number: 20180807-5058.

Comments Due: 5 p.m. ET 8/28/18.

Docket Numbers: ER18-1791-001.

Applicants: Duke Energy Florida, LLC.

Description: Tariff Amendment: DEF—Notice of Termination (US EcoGen Polk, LLC SA-180) Deficiency Response to be effective 8/15/2018.

Filed Date: 8/6/18.

Accession Number: 20180806-5116.

Comments Due: 5 p.m. ET 8/27/18.

Docket Numbers: ER18-1823-001.

Applicants: Walleye Power, LLC.

Description: Compliance filing: Notice of Reactive Tariff Effective Date—Succession Filing to be effective 7/31/2018.

Filed Date: 8/7/18.

Accession Number: 20180807-5054.

Comments Due: 5 p.m. ET 8/28/18.

Docket Numbers: ER18-2174-000.

Applicants: New England Power Company.

Description: § 205(d) Rate Filing: Filing of G-33 Circuit Support Agreement with Green Mountain Power Corp. to be effective 8/1/2018.

Filed Date: 8/6/18.

Accession Number: 20180806-5112.

Comments Due: 5 p.m. ET 8/27/18.

Docket Numbers: ER18-2175-000.

Applicants: Mid-Atlantic Interstate Transmission, LLC, West Penn Power Company, The Potomac Edison Company, Monongahela Power Company, Trans-Allegheny Interstate Line Company, American Transmission Systems, Incorporated, PJM Interconnection, L.L.C.

Description: § 205(d) Rate Filing: MAIT et al. submit Interconnection Agreements, SA Nos. 2149, 3743 and 5110 to be effective 10/5/2018.

Filed Date: 8/6/18.

Accession Number: 20180806-5115.

Comments Due: 5 p.m. ET 8/27/18.

Docket Numbers: ER18-2176-000.

Applicants: Midcontinent Independent System Operator, Inc.

Description: § 205(d) Rate Filing: 2018-08-07_SA 2484 Meadowlark Wind I-GRE 1st Rev GIA (G830) to be effective 7/24/2018.

Filed Date: 8/7/18.

Accession Number: 20180807-5007.

Comments Due: 5 p.m. ET 8/28/18.

Docket Numbers: ER18-2178-000.

Applicants: Holloman Lessee, LLC.

Description: Baseline eTariff Filing: Initial Market-Based Rate Tariff of Holloman Lessee LLC to be effective 10/7/2018.

Filed Date: 8/7/18.

Accession Number: 20180807-5092.

Comments Due: 5 p.m. ET 8/28/18.

Docket Numbers: ER18-2179-000.

Applicants: Black Hills Colorado Electric, Inc.

Description: § 205(d) Rate Filing: Notice of Succession (OATT) to be effective 7/10/2018.

Filed Date: 8/7/18.

Accession Number: 20180807-5098.

Comments Due: 5 p.m. ET 8/28/18.

Docket Numbers: ER18-2180-000.

Applicants: Black Hills Colorado Electric, Inc.

Description: § 205(d) Rate Filing: Notice of Succession (WestConnect Point-to-Point) to be effective 7/10/2018.

Filed Date: 8/7/18.

Accession Number: 20180807-5099.

Comments Due: 5 p.m. ET 8/28/18.

Docket Numbers: ER18-2181-000.

Applicants: Black Hills Colorado Electric, Inc.

Description: § 205(d) Rate Filing: Notice of Succession (Agreements and Rate Schedules) to be effective 7/10/2018.

Filed Date: 8/7/18.

Accession Number: 20180807-5100.

Comments Due: 5 p.m. ET 8/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2018.
Nathaniel J. Davis, Sr.,
Deputy Secretary.

[FR Doc. 2018-17353 Filed 8-10-18; 8:45 am]

BILLING CODE 6717-01-P